COMMISSION ON CIVIL RIGHTS

Sunshine Act Meeting Notice

AGENCY: United States Commission on Civil Rights.

ACTION: Notice of Commission briefing and business meeting.

DATES: Friday, June 16, 2017, at 9:30 a.m. EST.

ADDRESSES: Place: National Place Building, 1331 Pennsylvania Ave. NW., 11th Floor, Suite 1150, Washington, DC 20245 (Entrance on F Street NW.).

FOR FURTHER INFORMATION CONTACT: Brian Walch, phone: (202) 376-8371; TTY: (202) 376-8116; email: publicaffairs@usccr.gov.

SUPPLEMENTARY INFORMATION: This business meeting is open to the public. There will also be a call-in line for individuals who desire to listen to the presentations. Call-in (listen only) information will be published closer to the meeting date, on the Commission's Web site and social media pages. Hearing-impaired persons who will attend the briefing and require the services of a sign language interpreter should contact Pamela Dunston at (202) 376-8105 or at signlanguage@usccr.gov at least three business days before the scheduled date of the meeting.

Meeting Agenda

I. Approval of Agenda

II. Business Meeting

A. Discussion and Vote on FY 2018 Project Proposals

• FY 2018 Statutory Enforcement Report

• Other project proposals

B. Discussion and Vote on FY 2019 Statutory Enforcement Report

C. Discussion and Vote on Revised Schedule regarding the FY 2017 Statutory Enforcement Report on Municipal Fees

D. Discussion and Vote on holding a telephonic business meeting on Friday June 23, 2017 on the following items:

a. Discussion and Vote on the Municipal Fees report

b. Discussion and Vote on the LGBT Workplace Discrimination report

E. Discussion and Vote on Changing the November and December Commission Business Meeting Dates

F. State Advisory Committees

• Vote on appointments to the Alabama State Advisory Committee

• Vote on appointments to the Montana State Advisory Committee

• Vote on appointments to the Oklahoma State Advisory Committee

G. Management and Operations

• Staff Director's Report

H. [10:30 a.m.] Presentation by Connecticut SAC Chair David McGuire on Advisory Memorandum on Solitary Confinement

I. [11 a.m.] Presentation on History of LGBTQ Civil Rights Movement

III. Adjourn Meeting.

Dated: June 7, 2017.
Brian Walch,
Director, Communications and Public Engagement.

[FR Doc. 2017-12142 Filed 6-7-17; 4:15 pm]

BILLING CODE 6335-01-P